DEPARTMENT OF THE INTERIOR

National Park Service

Notice of Intention To Extend Expiring Concession Contracts for a One Year Period Within the Pacific West Region

SUMMARY: Pursuant to the National Park Service Concessions Management Improvement Act of 1998, notice is hereby given that the National Park Service intends to extend the following expiring concession contracts pursuant to 36 CFR Part 51, section 51.23. This action is a short-term extension and will be for a one-year period ending December 31, 2002.

Concessioner Identification No. | Concessioner name | Park
CABR001 | Cabrillo Historical Association | Cabrillo National Monument.
DEVA004 | Death Valley Natural History Association | Death Valley National Park.
GOGA007 | Golden Gate National Park Association | Golden Gate National Recreation Area.
JOTR001 | Joshua Tree National Park Association | Joshua Tree National Park.
LAME007 | Seven Resorts, Inc | Lake Mead National Recreation Area.
MORA001 | Rainier Mountaineering, Inc | Mount Rainier National Park.
LACH002 | The House that Jack Built | North Cascades National Park.
LACH003 | Lake Chelan Recreation, Inc. dba North Cascades—Stehekin Lodge | North Cascades National Park.
OLYM006 | Hurricane Ridge Winter Sports Club, Inc | Olympic National Park.
OLYM064 | Sure Fire Wood | Olympic National Park.
OLYM093 | Chester Rooney | Olympic National Park.
PORE004 | Point Reyes National Seashore Association | Point Reyes National Seashore.
SEKI001 | Tim & Patricia Lover dba Cedar Grove Pack Station and Grant Grove Stables | Sequoia & Kings Canyon National Parks.
SEKI003 | Wolverton Pack Station | Sequoia & Kings Canyon National Parks.
SEKI005 | Mineral King Pack Station | Sequoia & Kings Canyon National Parks.
USAR002 | Arizona Memorial Museum Association | USS Arizona Memorial.

SUPPLEMENTARY INFORMATION: All the listed concession authorizations will expire on or before December 31, 2001. The National Park Service has determined that the proposed short-term extensions are necessary in order to avoid interruption of visitor services and has taken all reasonable and appropriate steps to consider alternatives to avoid such interruption. This 1-year extension is necessary to allow the National Park Service to develop and issue prospectuses, leading to the competitive selection of concessioners for new longer-term concession contracts.

Information about this notice can be sought from: National Park Service, Chief, Concession Program Management Office, Pacific West Region, Attn: Mr. Tony Sisto, 1111 Jackson Street, Suite 700, Oakland, California 94607 or call (510) 817-1366.

Dated: September 25, 2001.
Martha K. Leicester,
Acting Regional Director, Pacific West Region.

[FR Doc. 01-27696 Filed 11-2-01; 8:45 am]

BILLING CODE 4310-10-P